DEPARTMENT OF HEALTH AND HUMAN SERVICES

Administration for Children and Families

Proposed Information Collection Activity; Comment Request

Title: Evaluation of Head Start Early Learning Mentor Coach Initiative.

OMB No.: New Collection.

Billing Accounting Code (BAC): 418422 (CAN G994426).

Description: The Administration for Children and Families is requesting comments on plans to collect information as part of an implementation evaluation of the Head Start Early Learning Mentor-Coach Initiative. The study will collect information necessary for understanding the methods and approaches being used by Head Start grantees who were awarded funds under the American Recovery and Reinvestment Act of 2009—Early Learning Mentor Coach funding announcement (Funding Opportunity Number HHS-201-ACF-OHS-ST-0120)

The study will describe the range of approaches being used by the grantees, including descriptions of the role of the mentor coach within the grantee agency; the types of teachers and caregivers with whom the mentor coaches are working; the quality, frequency and content of interactions between the mentor coaches and teachers and caregivers; and the types of approaches and resources used by the mentor coaches. The study will also examine the characteristics of the settings and the systems in which the mentor coaching is embedded. Finally the study will examine the degree to which the approach used by grantees and mentor coaches and the fit between the two—relate to factors likely to affect the success of the mentor coach's efforts, such as the quality of relationships with teachers and caregivers or changes in teacher or caregiver approaches and attitudes about caring for young children over time.

The data collection will include a survey of the grantees, telephone interviews with mentor coaches and teachers, and the collection of monthly tracking data indicating the frequency and content of mentors' contact with each teacher.

Respondents: Individuals or Households, Grantees.

Annual Burden Estimates
Instrument | Annual number of respondents | Number of responses per respondent | Average burden hours per response | Total annual burden hours
Grantee Survey | 131 | 1 | .5 | 66
Mentor Coach Interview | 131 | 2 | .5 | 131
Teacher Interview | 262 | 2 | .5 | 262
Mentor Coach Contact Tracking sheet | 131 | 12 | .2 | 314

Estimated Total Annual Burden Hours: 773.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfoco11ection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 12, 2010.
Steven M. Hanmer,
Reports Clearance Officer.

[FR Doc. 2010-29071 Filed 11-18-10; 8:45 am]

BILLING CODE 4184-01-M